DEPARTMENT OF TRANSPORTATION

Bureau of Transportation Statistics

[Docket Number DOT-OST-2022-15247]

Agency Information Collection Activity; New Information Collection: Freight Logistics Optimization Works (FLOW) Initiative

AGENCY: Office of the Assistant Secretary for Research and Technology (OST-R), Bureau of Transportation Statistics (BTS), U.S. Department of Transportation.

ACTION: 30-Day notice of new information collection.

SUMMARY: On July 18, 2022, the Bureau of Transportation Statistics (BTS) announced its intention in a Federal Register Notice (87 FR 42796) to request that the Office of Management and Budget (OMB) approve the following information collection: The Freight Logistics Optimization Works (FLOW) Project. Over the past several years, the U.S. supply chain has struggled with unprecedented congestion under COVID-induced surges of containerized cargo through our ports and intermodal networks. In March of this year, the White House announced the launch of the Freight Logistics Optimization Works (FLOW) initiative with the Department of Transportation and the freight industry to facilitate a collaboration and sharing of intermodal trade data. This collaboration would help improve supply chain efficiencies and reduce overall costs to U.S. consumers. The FLOW initiative builds on previous work by the Administration's Supply Chain Disruptions Task Force to ensure the expeditious movement of cargo from ship to shelf. In accordance with the Paperwork Reduction Act of 1995, BTS announces its plan to submit the Information Collection Request (ICR) described below to the Office of Management and Budget (OMB) for its review and approval. BTS encouraged interested parties to submit comments to docket number 2022-15247, during the 60-day comment period. No comments were received.

DATES: Written comments should be submitted by December 7, 2022.

ADDRESSES: BTS seeks public comments on its proposed information collection. Comments should address whether the information will have practical utility; the accuracy of the estimated burden hours of the proposed information collection' ways to enhance the quality, utility and clarity of the information to be collected; and ways to minimize the burden of the collection of information on respondents, including the use of automated collection techniques or other forms of information technology. Send comments to the Office of Information and Regulatory Affairs, Office of Management and Budget, 725-17th Street NW, Washington, DC 20503, Attention: BTS Desk Officer.

FOR FURTHER INFORMATION CONTACT: Demetra V. Collia, Bureau of Transportation Statistics, Office of the Assistant Secretary for Research and Technology, USDOT, Office of Safety Data and Analysis, RTS-34, E36-302, 1200 New Jersey Avenue SE, Washington, DC 20590-0001, Phone No. (202) 366-1610; Fax No. (202) 366-3383; email: demetra.collia@dot.gov. Office hours are from 8:30 a.m. to 5 p.m., EST, Monday through Friday, except Federal holidays.

Data Confidentiality Provisions: The confidentiality of the Freight Logistics Optimization Works (FLOW) initiative with the Department of Transportation and the freight industry to facilitate a collaboration and sharing of intermodal trade data submitted to BTS is protected under the BTS Confidential Information Protection and Statistical Efficiency Act (CIPSEA) of 2018 (Pub. L. 115-435 Foundations for Evidence-Based Policymaking Act of 2018, Title III). In accordance with these confidentiality statutes, only statistical (aggregated) and non-identifying data will be made publicly available by BTS through its reports. BTS will not release data to any public or private entity, nor any information that might reveal the identity of individuals, organizations or businesses without explicit consent of the data providers.

SUPPLEMENTARY INFORMATION:

I. The Data Collection

The Paperwork Reduction Act of 1995 (44 U.S.C. chapter 35; as amended) and 5 CFR part 1320 require each Federal agency to obtain OMB approval to initiate an information collection activity. BTS is seeking OMB approval for the following BTS information collection activity:

Title: Freight Logistics Optimization Works (FLOW) Project.

OMB Control Number: 2138-0049.

Type of Review: New collection.

Respondents: Businesses in the Freight Industry.

Number of Potential Responses: No more than 200 companies.

Estimated Time per Response: 26.5 hours.

Frequency: Annual.

Total Annual Burden Hours: Estimated Total Annual Burden is 5,300.

Privacy Act

You may review DOT's complete Privacy Act Statement in the Federal Register published on January 17, 2008 (73 FR 3316), or you may visit http://edocket.access.gpo.gov/2008/pdf/E8-785.pdf.

Demetra V. Collia,
Director, Office of Safety Data and Analysis, Office of the Assistant Secretary for Research and Technology, U.S. Department of Transportation.

[FR Doc. 2022-24125 Filed 11-4-22; 8:45 am]

BILLING CODE 4910-9X-P